DEPARTMENT OF HEALTH AND HUMAN SERVICES

Centers for Disease Control and Prevention

Disease, Disability, and Injury Prevention and Control Special Emphasis Panel (SEP)—CE19-004, Etiologic and Effectiveness Research To Address Polysubstance Impaired Driving; Amended Notice of Meeting

Notice is hereby given of a change in the meeting of the Disease, Disability, and Injury Prevention and Control Special Emphasis Panel (SEP)-CE19-004, Etiologic and Effectiveness Research to Address Polysubstance Impaired Driving; May 7-8, 2019; 8:30 a.m.-5:30 p.m., (EDT) which was published in the Federal Register on February 15, 2019, Volume 84, Number 32, page/s/4446-4447.

The meeting is being amended to change the meeting location to The W Buckhead, 3377 Peachtree Road, NE, Atlanta, GA 30326]. The meeting is closed to the public.

FOR FURTHER INFORMATION CONTACT: Mikel L. Walters, M.A., Ph.D., Scientific Review Official, NCIPC, CDC, 4770 Buford Highway NE, Mailstop F-63, Atlanta, Georgia 30341,(404) 639-0913; mwalters@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-06146 Filed 3-29-19; 8:45 am]

BILLING CODE 4163-18-P